FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission,Washington, DC 20573.

Non-Vessel-Operating Common Carrier—Ocean Transportation Intermediary

Aerocosta Global Group, Inc., dba Aerocosta Global Systems Inc., 2463 208th Street, #205,Torrance, CA 90501, Officers: Hwa S. Kil, Secretary, (Qualifying Individual), Darren Kim, President/Treasurer

IDS Freight Services USA LLC, 230-59 International Airport Center Blvd., Suite 270, Jamaica, NY 11413, Officers: Scott Ornstein, Director (Qualifying Individual), S. Oxley, President

Seapassion Logistics Inc., 12403 Slauson Avenue, Unit C, Whittier, CA 90606, Officers: Jun (aka Alex) Zhong, Treasurer, (Qualifying Individual), Jun Zhang, President

United Sunfine Logistics, Inc., 20539 Walnut Drive, Suite F, Walnut, CA 91789, Officers: Andy Kung, President (Qualifying Individual), Chen Jie, CEO

Flash Air Cargo, Inc., 10775 NW 21 Street, #150, Doral, FL 33172, Officers: Jose L. Montero, President (Qualifying Individual), Lisellot Casasnovas, Vice President/Secretary

Empire Worldwide Logistics LLC, 21501 Juego Circle, Suite 29B, Boca Raton, FL 33433, Officer: Kenneth Quartarolo, Member/Manager

Perfect Logistics International Inc., 370 Amapola Avenue, Suite 207, Torrance, CA 90501, Officer: Lili Gu, President (Qualifying Individual)

P.O.L. International Inc., 245 E. Main Street, #107, Alhambra, CA 91801, Officer: Tiffany Huang, President/Secretary/Treasurer, (Qualifying Individual)

Non-Vessel-Operating Common Carrier and Ocean Freight Forwarder—Ocean Transportation Intermediary

Post Oak Management Group, L.P. dba Momentum Global Logistics, 14655 NW Freeway, #138, Houston, TX 77040, Officers: Diana D. Conner, V.P. of International Operations (Qualifying Individual), Gregory M. Giles, President

Waled International LLC, 10333 Harwin Drive, #460C, Houston, TX 77036, Officer: Abdurahman Esmael, Member/Manager (Qualifying Individual)

M & S Shipping Limited, 5701 Thurston Avenue, Suite 102, Virginia Beach, VA 23455, Officer: Peter W. Simmons, President (Qualifying Individual)

Rigenti Investment Company LLC, 5300 Pennington Avenue, Baltimore, MD 21226, Officer: Richard N. Egenti, President (Qualifying Individual)

Carijamaica Freight & Shipping, LLC, 8524 NW 72nd Street, Miami, FL 33166, Officers: Marcia J. Sayles, Manager, (Qualifying Individual), Devon O. Grant, Manager

YJC Logistics Corp. dba YJC Logistics dba YJC America, 3600 Wilshire Blvd., #1234, Los Angeles, CA 90010, Officers: David J. Chun, Treasurer (Qualifying Individual), Jeong J. Byun, CEO/President/Secretary

Route 809 Freight Forward LLC, 7801 NW 66th Street, #C, Miami, FL 33166, Officers: Eduardo Pichardo, Manager/Member (Qualifying Individual), Indhira Pantaleon, Manager/Member

Amass International Group Inc., 13191 Crossroads Parkway North, Suite 385, City of Industry, CA 91746, Officers: Jia (James) H. Bai, Secretary, (Qualifying Individual), Garrisun Ge, President/Director

American International Transport, Inc., 12833 Simms Avenue, Suite B, Hawthorne, CA 90250, Officers: David Nakama, Vice President (Qualifying Individual), Lourdes Evans, Director/Pres./Sec./Treasurer

Peters & May USA, Inc. dba Compass Marine, 1656 Carmen Drive, Elk Grove Village, IL 60007, Officers: David K. Ong, Assistant Secretary (Qualifying Individual), Jan Rydgren-Knudsen, President

Counterpoint Logistics LLC, 444 Donaldson Street, Highland Park, NJ 08904, Officer: Robby Lee, President (Qualifying Individual)

Sitorex Corporation, 5926 Glenoak Avenue, Baltimore, MD 21214, Officers: Emmanuel Ndiaye, President, (Qualifying Individual), Michael A. Boaten, Vice President

Ocean Freight Forwarder—Ocean Transportation Intermediary

LHE International, Inc., 8225 NW 68th Street, Miami, FL 33166, Officers: Leticia Machuca, President/Secretary (Qualifying Individual), Hugo M. Marte, Vice President

Marine Experts, Inc., 8009 NW 36th Street, #220, Doral, FL 33166, Officers: Ivan Garcez, President (Qualifying Individual), Ulysses Garcez, Vice President

Dated: March 26, 2010.
Karen V. Gregory,
Secretary.

[FR Doc. 2010-7276 Filed 3-31-10; 8:45 am]

BILLING CODE 6730-01-P